COMMITTEE FOR THE IMPLEMENTATION OF TEXTILE AGREEMENTS

Designation under the Textile and Apparel Commercial Availability Provisions of the African Growth and Opportunity Act (AGOA)

November 8, 2006.

AGENCY: The Committee for the Implementation of Textile Agreements (CITA)

ACTION: Designation

EFFECTIVE DATE: November 15, 2006.

SUMMARY: The Committee for the Implementation of Textile Agreements (CITA) has determined that certain combed and ring spun yarn, of a 92 percent cotton/8 percent cashmere blend, comprised of 2/32 Nm resulting in a 16 Nm yarn size, classified in subheading 5205.42.0020 of the Harmonized Tariff Schedule of the United States (HTSUS) for use in men's knit sweaters, cannot be supplied by the domestic industry in commercial quantities in a timely manner. CITA hereby designates such apparel articles of such yarn, that are cut from fabric formed, or knit-to-shape, and sewn or otherwise assembled in one or more eligible AGOA beneficiary countries as eligible to enter free of quotas and duties under HTSUS subheading 9819.11.24.

FOR FURTHER INFORMATION CONTACT: Maria K. Dybczak, Office of Textiles and Apparel, U.S. Department of Commerce, (202) 482-3400.

SUPPLEMENTARY INFORMATION:

Authority: Section 112(b)(5)(B) of the AGOA; Presidential Proclamation 7350 of October 2, 2000; Section 1 of Executive Order No. 13191 of January 17, 2001.

BACKGROUND:

The AGOA provides for quota-and duty-free treatment for qualifying textile and apparel products. Such treatment is generally limited to products manufactured from yarns and fabrics formed in the United States or a beneficiary country. The AGOA also provides for quota-and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the AGOA and directed CITA to establish procedures to ensure appropriate public participation in any such determination. On March 6, 2001, CITA published procedures that it will follow in considering requests. See Procedures in Considering Request Under the Textile and Apparel “Short Supply” Provisions of The African Growth and Opportunity Act and The United-States Caribbean Basin Trade Partnership Act, 66 FR 13502 (March 6, 2001).

On July 5, 2006 the Chairman of CITA received a petition from Shibani Inwear of Mauritius alleging that a certain combed and ring spun yarn, of a 92 percent cotton/8 percent cashmere blend, comprised of 2/32 Nm resulting in a 16 Nm yarn size, classified in subheading 5205.42.0020 of the HTSUS cannot be supplied by the domestic industry in commercial quantities in a timely manner. The petition requested quota- and duty-free treatment under the AGOA for men's knit sweaters that are both cut from fabric formed, or knit-to-shape, and sewn or otherwise assembled in one or more AGOA beneficiary countries from such yarn.

On July 12, 2006, CITA published a notice in the Federal Register requesting public comments on the petition. See Request for Public Comments on Commercial Availability Request under the African Growth and Opportunity Act (AGOA), 71 FR 39307 (July 12, 2006).

In response to a previous commercial availability request by the same petitioner on the subject yarn, submitted on March 6, 2006, CITA sought advice from the U.S. International Trade Commission (ITC).

In response to the previous commercial availability request for this subject yarn, on March 31, 2006, CITA and the Office of the U.S. Trade Representative (USTR) sent memoranda seeking the advice of the Industry Trade Advisory Committees (ITACs) for Textiles and Clothing and for Distribution Services.

As CITA had recently obtained advice from the ITC, and the ITC has confirmed that its advice is unchanged from the previous report, and the relevant ITACs had no comments regarding the subject yarn, CITA did not request advice again. On July 28, 2006, CITA and the USTR sent memoranda informing the Senate Finance Committee and the House Ways and Means Committee (collectively, the Congressional Committees) that CITA was available to consult on the request.

Based on the information and advice received and its understanding of the industry, CITA determined that the yarn set forth in the petition cannot be supplied by the domestic industry in commercial quantities in a timely manner. On September 5, 2006, CITA and USTR submitted a report to the Congressional Committees that set forth the action proposed, the reasons for such action, and advice obtained. A period of 60 calendar days since this report was submitted has expired.

CITA hereby designates men's knit sweaters that are both cut from fabric formed, or knit-to-shape, and sewn or otherwise assembled in one or more eligible beneficiary sub-Saharan African country from certain combed and ring spun yarn, of a 92 percent cotton/8 percent cashmere blend, comprised of 2/32 Nm resulting in a 16 Nm yarn size, classified in subheading 5205.42.0020 of the HTSUS, as eligible to enter free of quotas and duties, provided all other yarns used in the referenced apparel articles are U.S. formed, subject to the special rules for findings and trimmings, certain interlinings and de minimis fibers and yarns under section 112(d) of the AGOA, and that such articles are imported directly into the customs territory of the United States from an eligible AGOA beneficiary country.

An “eligible beneficiary sub-Saharan African country” means a country which the President has designated as a beneficiary sub-Saharan African country under section 506A of the Trade Act of 1974 (19 U.S.C. 2466a), and which has been the subject of a finding, published in the Federal Register, that the country has satisfied the requirements of section 113 of the AGOA (19 U.S.C. 3722), resulting in the enumeration of such country in U.S. note 1 to subchapter XIX of chapter 98 of the HTSUS.

Philip J. Martello,
Acting Chairman, Committee for the Implementation of Textile Agreements.

[FR Doc. E6-19305 Filed 11-14-06; 8:45 am]

BILLING CODE 3510-DS